DEPARTMENT OF THE INTERIOR

National Park Service

[NPS-WASO-NAGPRA-21929; PPWOCRADN0-PCU00RP14.R50000]

Notice of Inventory Completion: U.S. Fish and Wildlife Service, Alaska Region, Anchorage, AK

AGENCY: National Park Service, Interior.

ACTION: Notice.

SUMMARY: The U.S. Fish and Wildlife Service, Alaska Region, Anchorage, AK (Alaska Region USFWS), has completed an inventory of human remains, in consultation with the appropriate Indian tribes or Native Hawaiian organizations, including Alaska Native Tribes, and has determined that there is a cultural affiliation between the human remains and present-day Indian tribes or Native Hawaiian organizations. Lineal descendants or representatives of any Indian tribe or Native Hawaiian organization, including Alaska Native Tribes, not identified in this notice that wish to request transfer of control of these human remains should submit a written request to the Alaska Region USFWS. If no additional requestors come forward, transfer of control of the human remains to the lineal descendants, Indian tribes, or Native Hawaiian organizations stated in this notice may proceed.

DATES: Representatives of any Indian tribes or Native Hawaiian organizations, including Alaska Native Tribes, not identified in this notice that wish to request transfer of control of these human remains should submit a written request with information in support of the request to the Alaska Region USFWS at the address in this notice by November 14, 2016.

ADDRESSES: Edward J. DeCleva, Regional Archaeologist, U.S. Fish and Wildlife Service, Alaska Region, 1011 East Tudor Road, MS-235, Anchorage, AK 99503, telephone (907) 786-3399, email Edward_decleva@fws.gov.

SUPPLEMENTARY INFORMATION: Notice is here given in accordance with the Native American Graves Protection and Repatriation Act (NAGPRA), 25 U.S.C. 3003, of the completion of an inventory of human remains under the control of the Alaska Region USFWS. The human remains were removed from Rat Island, AK.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by the Alaska Region USFWS professional staff in consultation with representatives of the Native Village of Atka, Atxam am Corporation, and the Aleut Corporation.

History and Description of the Remains

In 1951, human remains representing, at minimum, one individual were removed from Rat Island, AK. In 1952, they were transferred to the University of Oregon Museum of Natural and Cultural History by Dr. H. Powers, USGS. It is likely that the remains were received under the oversight of Dr. William S. Laughlin, who was connected to the University of Oregon at that time, but there is no further information. No known individuals were identified. No funerary objects were recovered.

The Rat Islands were occupied by Native Aleuts from at least 6000 years ago until modern times. The label of the remains as “Paleo-Aleut” in accession records may reflect Dr. William Laughlin's opinion, based on skull morphology, that the remains represented a population preceding modern Aleut peoples, but this cannot be confirmed. The human remains are thought to represent an adult male, 35-45 years old. Skeletal analysis indicated an individual of Native American affiliation.

Determinations Made by the Alaska Region USFWS

Officials of the Alaska Region USFWS have determined that:

• Pursuant to 25 U.S.C. 3001(9), the human remains described in this notice represent the physical remains of one individual of Native American ancestry.

• Pursuant to 25 U.S.C. 3001(2), there is a relationship of shared group identity that can be reasonably traced between the Native American human remains and the Native Village of Atka.

Additional Requestors and Disposition

Lineal descendants or representatives of any Indian tribe or Native Hawaiian organization not identified in this notice that wish to request transfer of control of these human remains and associated funerary objects should submit a written request with information in support of the request to Edward J. DeCleva, Regional Archaeologist, U.S. Fish and Wildlife Service, Alaska Region, 1011 East Tudor Road, MS-235, Anchorage, AK 99503, telephone (907) 786-3399, email Edward_decleva@fws.gov, by November 14, 2016. After that date, if no additional requestors have come forward, transfer of control of the human remains and associated funerary objects to the Native Village of Atka may proceed.

The Alaska Region USFWS is responsible for notifying the Native Village of Atka, Atxam am Corporation, and the Aleut Corporation that this notice has been published.

Dated: September 26, 2016.
Melanie O'Brien,
Manager, National NAGPRA Program.

[FR Doc. 2016-24593 Filed 10-11-16; 8:45 am]

BILLING CODE 4312-52-P